DEPARTMENT OF TRANSPORTATION

Federal Aviation Administration

Notice of Intent To Release Certain Properties From All Terms, Conditions, Reservations, and Restrictions of a FAAP Grant Agreement Between the County of Miami-Dade and the Federal Aviation Administration for the Kendall Tamiami Executive Airport, Miami, FL

AGENCY: Federal Aviation Administration (FAA), DOT.

ACTION: Request for public comment.

SUMMARY: The FAA hereby provides notice of intent to release certain airport properties 3,063s.f. (0.070acre) at the Kendall Tamiami Executive Airport, Miami, FL from the conditions, reservations, and restrictions as contained in a FAAP agreement between the FAA and the County of Miami-Dade, dated June 4, 1965. The release of property will allow the County of Miami-Dade to dispose of the property for other than aeronautical purposes. The property is located in the Northeast ¼ of Section 15, Township 55 South, Range 39 East, Miami-Dade County, Florida. The parcel is currently designated as non-aeronautical use. The property will be disposed of for the purpose of constructing a new right turn lane along the sought side of SW. 120th Street at its intersection with SW. 137th Ave. The fair market value of the property has been determined by appraisal to be $75,000. The airport will receive fair market value for the property, which will be subsequently reinvested in another eligible airport improvement project or used for operation and maintenance of the Kendall Miami Executive Airport.

Documents reflecting the Sponsor's request are available, by appointment only, for inspection at the Miami Dade Aviation Department Offices and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments must be submitted by May 16, 2007.

ADDRESSES: Documents are available for review at the Miami-Dade Aviation Department Offices, 4200 NW. 36th St., Miami, FL 33122, and the FAA Airports District Office, 5950 Hazeltine National Drive, Suite 400, Orlando, FL 32822. Written comments on the Sponsor's request must be delivered or mailed to: Ms. Krystal G. Hudson, Program Manager, Orlando Airports District Office, 5950 Hazeltine National Drive, Suite 400, Orlando, FL 32822-5024.

FOR FURTHER INFORMATION CONTACT: Ms. Krystal G. Hudson, Program Manager, Orlando Airports District Office, 5950 Hazeltine National Drive, Suite 400, Orlando, FL 32822-5024.

W. Dean Stringer,
Manager, Orlando Airports District Office, Southern Region.

[FR Doc. 07-1811 Filed 4-13-07; 8:45 am]

BILLING CODE 4910-13-M